DEPARTMENT OF COMMERCE

National Oceanic and Atmospheric Administration

[I.D. 062402B]

Marine Mammals; File No. 638-1519

AGENCY: National Marine Fisheries Service (NMFS), National Oceanic and Atmospheric Administration (NOAA), Commerce.

ACTION: Issuance of permit amendment.

SUMMARY: Notice is hereby given that Thomas R. Kieckhefer, 1055 Lewis Road, Royal Oaks, California 95076, has been issued a minor amendment to scientific research Permit No. 638-1519-00.

ADDRESSES: The amendment and related documents are available for review upon written request or by appointment in the following office(s):

Permits, Conservation and Education Division, Office of Protected Resources, NMFS, 1315 East-West Highway, Room 13705, Silver Spring, MD 20910; phone (301)713-2289; fax (301)713-0376; and

Southwest Region, NMFS, 501 West Ocean Blvd., Suite 4200, Long Beach, CA 90802-4213; phone (562)980-4001; fax (562)980-4018.

FOR FURTHER INFORMATION CONTACT: Jill Lewandowski or Trevor Spradlin, (301)713-2289.

SUPPLEMENTARY INFORMATION: The subject amendment to Permit No. 638-1519-00, originally issued on November 23, 1999 (64 FR 66903) has been granted under the authority of the Marine Mammal Protection Act of 1972, as amended (16 U.S.C. 1361 et seq.), the Regulations Governing the Taking and Importing of Marine Mammals (50 CFR part 216), the Endangered Species Act of 1973, as amended (ESA; 16 U.S.C. 1531 et seq.), and the regulations governing the taking, importing, and exporting of endangered and threatened species (50 CFR 222-226).

The permit holder requested authorization to extend Permit No. 638-1519-00 for an additional 12 months. The new expiration date for the permit is November 30, 2005 and the permit number has been changed to No. 638-1519-01 to reflect that the permit has been amended.

Dated: June 24, 2002.
Trevor R. Spradlin,
Acting Chief, Permits, Conservation and Education Division, Office of Protected Resources, National Marine Fisheries Service.

[FR Doc. 02-16385 Filed 6-27-02; 8:45 am]

BILLING CODE 3510-22-S